DEPARTMENT OF JUSTICE

Office of Justice Programs

Agency Information Collection Activities: Proposed Collection; Comment Request

ACTION: 60-Day notice of information collection under review: Reinstatement, without change, of a previously approved collection for which approval has expired; Crime Victim Compensation State Certification Form.

The Department of Justice, Office of Justice Programs, Office of Victims of Crime, has submitted the following information collection request for review and clearance in accordance with the Paperwork Reduction Act of 1995. This proposed information collection is published to obtain comments from the public and affected agencies. Comments are encouraged and will be accepted for “sixty days” until July 22, 2002.

If you have written comments, suggestions, or need a copy of the proposed information collection instrument with instructions or additional information, please contact Jeff Kerr, Program Specialist, 202-616-3581, Department of Justice, Office of Justice Programs, Office for Victims of Crime, 810 7th Street, NW., Washington, DC 20531.

Request written comments and suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information of those who are to respond, including through the use of appropriate automated, electronic, mechanical, or other technological collection techniques or other forms of information, e.g., permitting electronic submission of responses.

Overview of this information:

(1) Type of information collection: Reinstatement, without change, of a previously approved collection for which approval has expired.

(2) The title of the form/collection: Crime Victim Compensation State Certification Form.

(3) The agency form number, if any, and the applicable component of the Department sponsoring the collection: The form number is OJP Administrative Form 7390/5, Office of Justice Programs, United States Department of Justice.

(4) Affected public who will be asked or required to respond, as well as a brief abstract: Primary: State, Local and Tribal Governments. The Victim of Crime Act (VOCA) as amended and the Victim Compensation Program Guidelines require each crime victim compensation program to submit an annual Crime Victim Compensation Certification Form. Information received for each program will be used to calculate the annual formula/block grant amount for the VOCA state crime victim compensation programs. The information is aggregated and serves as supporting documentation for the Director's biennial report to the Congress.

(5) An estimate of the total number of respondents and the amount of time estimated for an average respondent to respond/reply: It is estimated that 54 respondents will each complete a one hour annual report.

(6) An estimate of the total public burden (in hours) associated with the collection: There are an estimated 54 total hour burden associated wit this collection.

If additional information is required contact: Mrs. Brenda E. Dyer, Deputy Clearance Officer, United States Department of Justice, Information Management and Security Staff, Justice Management Division, Suite 1600, 601 D Street, NW., Washington, DC 20530;

Dated: May 17, 2002.
Brenda E. Dyer,
Department Deputy Clearance Officer, Department of Justice.

[FR Doc. 02-12900 Filed 5-22-02; 8:45 am]

BILLING CODE 4410-18-M